SMALL BUSINESS ADMINISTRATION

National Small Business Development Center Advisory Board

AGENCY: U.S. Small Business Administration (SBA).

ACTION: Notice to change meeting date for the December Advisory board meeting.

SUMMARY: The SBA is issuing this notice to announce the change in date of the December 2016 meeting for the National Small Business Development Center (SBDC) Advisory Board.

DATES: The meeting for December will be held on the following date: Tuesday, December 13, 2016 at 1:00 p.m. EST.

ADDRESSES: This meeting will be held via conference call.

FOR FURTHER INFORMATION CONTACT: The meeting is open to the public however; advance notice of attendance is required. Anyone wishes to be a listening participant must contact Monika Nixon by fax (202) 481-5624 or email monika.nixon@sba.gov.

If you would like to request accommodations or require additional information, please contact Monika Nixon at the information above.

SUPPLEMENTARY INFORMATION: Pursuant to section 10(a) of the Federal Advisory Committee Act (5 U.S.C. Appendix 2), SBA announces the meetings of the National SBDC Advisory Board. This Board provides advice and counsel to the SBA Administrator and Associate Administrator for Small Business Development Centers.

The purpose of this meeting is to discuss the following issues pertaining to the SBDC Advisory Board:

—SBA Update

—Annual Meetings

—Board Assignments

—Member Roundtable

Miguel L'Heureux,
White House Liaison.

[FR Doc. 2016-29654 Filed 12-9-16; 8:45 am]

BILLING CODE 8025-01-P